DEPARTMENT OF HEALTH AND HUMAN SERVICES

Administration for Children and Families

Office of Refugee Resettlement; Services to Unaccompanied Alien Children

Announcement Type: Cooperative Agreement—Initial.

Funding Opportunity Number: HHS-2005-ACF-ORR-ZU-0007.

CFDA Number: 93.676.

Due Date for Letters of Intent: June 17, 2005.

Due Date for Applications: July 18, 2005.

Executive Summary: One of the functions of the Division of Unaccompanied Children's Services (DUCS) within ORR is to provide temporary shelter care and other related services to children in ORR custody. Shelter care services will be provided for the period beginning when DUCS accepts the child for placement and custody and ending when the child is released from custody, a final disposition of the child's immigration case results in removal of the child from the United States or the child turns 18 years of age. Shelter care and other child welfare related services in a State licensed residential shelter care program should be provided in the least restrictive setting appropriate to the UAC's age and special needs. While the majority of UAC remain in care for an average of 45 days, some will stay for shorter or longer periods of time. ORR is particularly interested in those facilities licensed for long term care as opposed to those facilities licensed as emergency shelters.

This announcement provides the opportunity to fund providers of shelter (basic, group home, staff secure, secure, therapeutic group home, transitional and long-term foster care services) and those providers that conduct suitability assessments and provide recommendations on such assessments. In this announcement, providers are referred to as “Recipients.” The children, although placed in the physical custody of the Recipient, remain entirely in the custody of the Federal Government.

I. Funding Opportunity Description

Legislative Authority: This program is authorized by section 462 of the Homeland Security Act of 2002, (6 U.S.C. 279) which, in March 2003, transferred responsibility of the Unaccompanied Alien Children's Program from the Commissioner of the former Immigration and Naturalization Service (INS) to the Director of the Office of Refugee Resettlement (ORR) of the Department of Health and Human Services (HHS).

The Director of ORR is encouraged to use the refugee children foster care system established pursuant to section 412(d) of the Immigration and Nationality Act (8 U.S.C. 1522(d)) for the placement of UAC. All programs must comply with the Flores Settlement Agreement and regulations that will be published.

Purpose and Objectives: One of the functions of the Division of Unaccompanied Children's Services (DUCS) within ORR is to provide temporary shelter care and other related services to children in ORR custody. Shelter care services will be provided for the period beginning when DUCS accepts the child for placement and custody and ending when the child is either released from custody, turns 18 years of age or a final disposition of the child's immigration case results in removal of the child from the United States. Shelter care and other child welfare related services should be provided to UAC in a State-licensed residential shelter care program in the least restrictive setting possible. While the majority of children remain in care for an average of 45 days, some will stay for shorter or longer periods of time. ORR is particularly interested in those facilities licensed for long term care as opposed to those facilities licensed as emergency shelters.

This announcement provides the opportunity to fund providers of shelter (basic, group home, staff secure, secure, therapeutic group home, transitional and long-term foster care services). In this announcement, providers are referred to as “Recipients.” The children, although placed in the physical custody of the Recipient, remain entirely in the custody of the Federal Government.

The population level of UAC is expected to fluctuate as arrivals and case dispositions occur. Program content must address the specialized and individual needs of children in various developmental stages. The program also must plan to serve children during various stages of their immigration proceedings. Although the population of children is projected to consist primarily of adolescents, recipients are expected to be able to serve some children who are under 12 years of age. ORR is particularly interested in facilities that have a capacity to serve children under 12 and pregnant and parenting teens.

Recipients of these funds are to facilitate the provision of assistance and services for each UAC including, but not limited to: Physical care and maintenance; provide routine and emergency medical/mental health care; dental services; comprehensive orientation; education; recreation; individual and group counseling by licensed clinicians; access to religious services, legal services and other social services. Recipients may be required to provide other services if ORR determines in advance that a service is reasonable and necessary for a particular child.

Recipients are expected to develop and implement an appropriate individualized service plan for the care and maintenance of each child in accordance with his/her needs as determined in an initial intake admission assessment and psychosocial assessment. In addition, Recipients are required to implement and administer a case management system which tracks and monitors children's progress on a regular basis to ensure that each child receives the full range of program services in an integrated and comprehensive manner.

Basic shelter care services shall be provided in accordance with applicable State child welfare statutes and generally accepted child welfare standards, practices, principles, and procedures. Services must be delivered in an open type of setting without a need for extraordinary security measures. Recipients must have a behavioral management system that utilizes a strength-based approach/model that will be required in the implementation of the UAC program.

Shelter services to special needs populations, such as victims of smuggling and trafficking, will require a higher level of security. Recipients that can offer placements for these populations should explain their ability and experience to provide such services.

Recipients are, however, required to design programs and strategies to discourage runaways and prevent the unauthorized absence of children in their care as outlined in the Flores Settlement Agreement. Service delivery is expected to be accomplished in a manner which is sensitive to the culture, native language and special needs of these children.

Client Population

It is anticipated that the client population will generally consist of males and females, 12 to17 years of age. Males represent a higher percentage of the total population of UAC. These UAC are primarily nationals of El Salvador, Honduras, Mexico, Nicaragua, Guatemala, People's Republic of China and India. However, Recipients can expect to provide services to significant numbers of children from various other countries. Recipients must also be prepared to provide child-care services to UAC under 12 years of age, as well as pregnant and parenting teens.

Definition of Unaccompanied Alien Child

An unaccompanied alien child is a child who:

(a) has no lawful immigration status in the United States;

(b) has not attained 18 years of age; and

(c) with respect to whom:

(i) there is no parent or legal guardian in the United States; or

(ii) no parent or legal guardian in the United States is available to provide care and physical custody (6 U.S.C. 279(g)(2).

Allowable Activities

All programs will be required to follow minimum standards for licensed programs (Exhibit 1 of the Flores Settlement Agreement) which require that all Unaccompanied Alien Children be provided with the following as stated in Section IV of this announcement: proper physical care and maintenance; individualized need assessments; educational services by certified teachers; activities (recreation/leisure); medical and dental; mental health services (including psychiatric and psychological services, as well as specialized therapeutic services) on-site; at least one individual counseling session per week; group counseling sessions at least twice a week; acculturation and adaptation services; access to religious services (whenever possible); right to privacy; visitation and contact with family members; family reunification and release services; legal orientation and access to legal services; neighborhood community relations and escort; transportation services; interpretation and translation; orientation to program rules and regulations.

All services should be culturally sensitive to the population being served.

Geographic Locations

Applications will be awarded in two phases for the two groups identified below. Applications submitted pursuant to this announcement must plan for the delivery of services to a population as specified below, with a licensed capacity for future expansion. The shelter should be accessible to immigration courts, pro bono attorneys, national transportation hubs, and community mental health and medical resources/services. The facilities must be located within a 50 mile radius of the metropolitan areas identified below:

Group I.—Geographic Location
[Start Date October 1, 2005]
No. | Location by state | Location by city | Type of facility or services required | Total number of beds required* | Funds available up to (millions in dollars) | Budget periods
1 | Florida | Miami | Basic Shelter and/or Group Homes | 42 | 2.53 | Oct 1, 2005-Sept 30, 2006.
2 | Georgia | Atlanta | Basic Shelter | 24 | 1.57 | Oct 1, 2005-Sept 30, 2006.
3 | California | San Diego | Basic Shelter | 15 | 1.25 | Oct 1, 2005—Sept 30, 2006.
4 | Arizona | Phoenix | Basic Shelter | 120 | 5.91 | Oct 1, 2005-Sept 30, 2006.
5 | Illinois | Chicago | Basic shelter and/or Group Homes and Foster Care | 59 (54 shelter and 5 foster Home beds | 2.895 | Oct 1, 2005-Sept 30, 2006.
6 | Texas | Houston Site Two | Basic Shelter and/or Group Homes | 32 | 1.76 | Oct 1, 2005-Sept 30, 2006.
7 |  | Houston Site Three | Staff Secure Care | 14 | 0.91 | Oct 1, 2005-Sept 30, 2006.
8 |  | Houston Site Four | Basic Shelter and/or Group Homes | 32 | 1.65 | Oct 1, 2005-Sept 30, 2006.
9 |  | El Paso | Basic Shelter and/or Group Homes | 56 | 3.10 | Oct 1, 2005-Sept 30, 2006.
10 |  | Brownsville | Basic Shelter and/or Group Homes | 40 | 2.31 | Oct 1, 2005-Sept 30, 2006.
11 |  | Brownsville | Staff Secure Care | 5 | 0.30 | Oct 1, 2005-Sept 30, 2006.
12 |  | Brownsville/Harlingen | Basic Shelter and/or Group Homes | 136 | 4.47 | Oct 1, 2005-Sept 30, 2006.
13 |  | Brownsville/Harlingen | Transitional Foster care | 36 | 1.32 | Oct 1, 2005-Sept 30, 2006.
Subtotal Number of Beds and Amount of Money for Group I: | 611 beds | $29.975 (million)
14 | Nationwide Network |  | Long Term Foster Care | Supports up to 50 clients in care per applicant (two awards available) | $980,000 for long-term Foster care (for a total of $1.96 million for this category) | Oct 1, 2005-Sept 30, 2006.
| Transitional Foster Care | Support 6 beds each in Tacoma, WA and in Phoenix, AZ (two awards available) | $690,000 each (for a total of $1.38 million for this category) | Oct 1, 2005-Sept 30, 2006.
| To Conduct Suitability Assessments and Recommendations | Up to120 suitability assessment cases per applicant (two awards available) | $1.9 million (for a total of $3.8 million for this category) | Oct 1, 2005-Sept 30, 2006.
Total Amount of Money for Group I: | $34.915 (million)
* Could potentially be comprised of more than one agency.

Group II.—Geographic Location
[Start Date March 1, 2006]
No. | Location by state | Location by city | Type of facility or services required | Total number of beds required* | Funds available up to (millions in dollars) | Budget period of awards
1 | California | Los Angeles | Basic Shelter and/or Group Homes | 24 | 1.76 | Mar 1, 2006-Feb 28, 2007.
2 |  | San Diego | Group Homes | 9 | 0.75 | Mar 1, 2006-Feb 28, 2007.
3 |  | San Francisco | Basic Shelter and/or Group Homes | 16 | 1.33 | Mar 1, 2006-Feb 28, 2007.
4 |  | Phoenix | Group Homes | 24 | 1.19 | Mar 1, 2006-Feb 28, 2007.
5 | Arizona | Phoenix | Therapeutic Group Homes | 6 | 0.218 | Mar 1, 2006-Feb 28, 2007.
6 | Texas | Houston Site One | Basic Shelter | 16 | 0.90 | Mar 1, 2006-Feb 28, 2007.
7 | Texas or NY | One location | Therapeutic Group Home | 6 | 0.33 | Mar 1, 2006-Feb 28, 2007.
8 | Texas | Mc Allen or Southeast Texas | Basic Shelter and/or Group Homes | 32 | 1.10 | Mar 1, 2006-Feb 28, 2007.
9 | Texas or Indiana | One or two locations | Secure Care | 6 | 0.40 | Mar 1, 2006-Feb 28, 2007.
Total Number of Beds and Money for Group II: | 139 beds | $7.968 (million)
* Could potentially be comprised of more than one agency.

Note: ORR could change the number of beds in any location (up or down) any time based on its needs and availability of funds.

The geographical location of the primary recipient is not restricted to a selected area of service. However, the recipient must be able to substantiate that the facility, network of local affiliates or their sub-recipient(s) are located in the designated geographic service area/s. The recipient must be able to deliver the required services effectively and appropriately and ensure that local service provider organizations are licensed under applicable State law to provide basic shelter care and related services to dependent children.

Agencies are encouraged to partner with other licensed agencies in order to meet capacity needs of the designated geographical area. For example, in a geographical area requiring 32 beds, two agencies can collaborate and propose a shelter with 24 beds and a group home with 8 beds.

Provision of Care (Minimum Standards for Licensed Programs)

Licensed programs shall comply with the Flores Settlement Agreement, all applicable state child welfare laws and regulations and all state and local building, fire, health and safety codes and shall provide or arrange for the services listed below for each child in their care. In addition, recipients shall comply with ORR's policies and procedures and cooperative agreement.

The applicants must cover in detail the following service areas:

1. Care and maintenance: Proper physical care and maintenance, including suitable living accommodations, culturally appropriate food, clothing, and personal grooming items.

2. Medical: Appropriate routine medical and dental care, family planning services, and emergency health care services, a complete medical examination (including screening for infectious disease) within 48 hours of admission, excluding weekends and holidays, unless the child was recently examined at another facility; appropriate immunizations in accordance with the U.S. Public Health Service (PHS) and Centers for Disease Control and prevention; administration of prescribed medication and special diets; and appropriate mental health interventions when necessary.

3. Assessment: Individualized assessment which includes: (1) Various initial intake and assessment forms (initial intake, admission assessment, psychosocial assessment, individual service plan); (2) essential data relating to the identification and history of the child and family; (3) identification of the child's mental health and medical special needs, including any specific issues which appear to require immediate intervention; (4) an educational assessment and plan; (5) an assessment of family relationships and interaction with adults, peers and authority figures; (6) a statement of religious preference and practice; (7) an assessment of the child's personal goals, strengths and weaknesses; and (8) identifying information regarding immediate family members, other relatives, godparents or friends who may be residing in the United States and may be able to assist in family reunification.

4. Education: Educational services Monday through Friday, appropriate to the child's level of development, and communication skills in a structured classroom setting which concentrates primarily on the development of basic academic competencies, and secondarily on English Language acquisition or skills (ELT). The educational program shall include instruction, educational materials and other reading materials in such languages as needed. Basic academic areas should include Science, Social Studies, Mathematics, Reading, Writing and Physical Education. The Recipient shall provide children with appropriate reading materials in their native languages for use during the children's leisure time. Educational services should serve both short and long-term needs of those served and should be provided by state/county certified teachers. Vocational instruction should be encouraged.

5. Recreation/Leisure: Activities according to a recreation and leisure time plan that includes daily outdoor activities, weather permitting, at least one hour per day of large muscle activity and one hour per day of structured leisure time activities (this should not include time spent watching television). Activities should be increased to a total of five hours daily on days when school is not in session, including weekends. Preference will be given to those with on-site recreational facilities/space.

6. Mental Health: Referral to or provision of mental health services, such as crisis intervention, including protocols and standards for emergency mental health situations; on-site or outpatient psychotherapy and counseling; psychiatric evaluation, treatment, and medication management; psychological evaluation and assessment; therapeutic residential treatment; in-patient psychiatric care and other clinical interventions identified as appropriate by ORR. Bilingual mental health services are preferred.

7. Individual Counseling: At least one (1) individual counseling session per week conducted by a licensed clinician, trained case managers with social work experience with the specific objectives of reviewing the child's progress, establishing new short-term objectives, and addressing the developmental, immediate concerns and special needs of each child.

8. Group Counseling: Programs shall conduct group counseling sessions/community meetings at least twice a week. This is usually an informal process and takes place with all the children present. It is a time when new children are given the opportunity to get acquainted with the staff, other children, and the rules of the program. Community meetings shall be open forums where everyone has a chance to speak. Daily program management is discussed and decisions are made about recreational activities, etc. Social work staff shall have a curriculum for group therapy that may be altered depending on the needs of the population. Group goals should include learning problem solving skills, socializing and cultural adaptation techniques, didactic instruction, assertiveness training, anger reduction, interpersonal learning, relaxation and stress reduction, building group cohesiveness, and the proper expression of thoughts and feelings.

9. Acculturation: Acculturation and adaptation services should include information regarding the development of social and inter-personal skills which contribute to the ability to live independently and responsibly.

10. Orientation: Upon admission, a comprehensive orientation regarding program intent, services, rules (written and verbal), expectations and the availability of legal assistance.

11. Religious Access: Whenever possible, access to religious services of the child's choice.

12. Visitation: Visitation and contact with family members (regardless of the family's immigration status) that is structured to encourage such visitation. The staff shall respect the child's privacy while reasonably preventing the unauthorized release of the child. Visitation includes unlimited access to children by their retained attorneys.

13. Right to Privacy: A reasonable right to privacy, which includes the right to (1) wear his or her own clothes, when available; (2) retain a private space in the residential facility, group or foster home for the storage of personal belongings; (3) Children have the right to make phone calls to family including to their country of origin (4) talk privately on the phone, as permitted by the house rules and regulations; (5) visit privately with guests, as permitted by the house rules and regulations; and (6) receive and send uncensored mail unless there is a reasonable belief that the mail contains contraband.

14. Family Reunification and Release Services: Family reunification and release services designed to identify appropriate sponsors in the United States. Provision of reunification services will be monitored and evaluated. For those facilities currently serving children, preference will be given to those that have a demonstrated record of successful, thorough and expedient reunification and release services.

15. Legal Services Orientation: Legal services information regarding the availability of free legal assistance, the right to be represented by counsel at no expense to the government, the right to a removal hearing before an Immigration Judge, the right to apply for political asylum or to request voluntary departure in lieu of removal. Private space should be provided by the Recipient for legal consultation. Children have the right to make phone calls to family including to their country of origin.

16. Cultural Sensitivity: Service delivery is to be accomplished in a manner which is sensitive to the age, culture, religion, dietary needs, native language and the individual needs of each child.

17. Rules: Program rules and discipline standards shall be formulated with consideration for the range of ages and maturity in the program and shall be culturally sensitive to the needs of unaccompanied alien children. A positive strength-based behavior management approach should be used. Children shall not be subjected to corporal punishment, humiliation, mental abuse or punitive interference with the daily functions of living, such as eating or sleeping. Any sanctions employed shall not: (a) adversely affect either a child's health, or physical or psychological well-being; or (b) deny a child regular meals, sufficient sleep, exercise, medical care, correspondence privileges, or legal assistance.

18. Service Plan: A comprehensive and realistic Individual Service Plan for the care of each child must be developed in accordance with the child's needs as determined by the initial intake, admission assessment, and psychosocial assessments. Individual Service Plans shall be implemented and closely coordinated through an operative case management system.

19. Language Capacity: Programs shall hire and maintain staff that speaks the major languages of the children under their care. Access to other languages should also be available, if necessary.

20. Record Keeping: Programs shall develop, maintain and safeguard individual client case records. Agencies and organizations are required to develop a system of accountability which preserves the confidentiality of client information and protects the records from unauthorized use or disclosure. The records of clients served under this program are ORR's records.

21. Reporting to ORR: Programs shall maintain adequate records and make regular reports as required by ORR that permit ORR to monitor and enforce the Flores Settlement Agreement, Federal requirements, ORR's policies and procedures and other requirements and standards as ORR may determine are in the best interests of the children. Recipient will have the capability to maintain detailed electronic client data information on the ORR Internet web-based database.

22. Transportation/Escort: Recipient will provide transportation to and from the facility to other locations and/or facilities throughout the United States. Transport will also include trips to and from local airports. Costs for regularly anticipated escorted transportation should be reflected in the proposed budget.

23. Training: Staff-training should comply with state licensing requirements and individualized training plans. A training plan should be submitted with your attached proposal.

24. Vocational program or activities: Opportunity for children to receive vocational training in some useful and appropriate skills.

The provision of services will include a structured, safe and productive environment which meets or exceeds respective state guidelines, the Flores Settlement Agreement and ORR's minimum standards for services designed to serve children in ORR's care and custody.

Program Design

The applicants must set forth in detail information concerning the following:

1. Overview: A comprehensive overview of the applicant agency, agency qualifications and history, including philosophy, goals and history of experience with respect to the provision of child welfare, social service, cross cultural/international or related services to children under 18 years of age from various cultural backgrounds and with various language capabilities.

2. Management Plan: a. A plan for overall fiscal and program management and accountability.

b. A description of the organizational structure and lines of authority (organization chart).

c. A comprehensive program staffing plan and information regarding staff qualifications (education, relevant professional experience for some positions needed) and languages each staff speaks.

d. A comprehensive plan for coordination of activities between the various program components and coordination with other community and governmental agencies.

e. Staff supervisory model.

f. Provisions for staff training.

g. Proposed staff schedule(s).

h. A description of the role(s) and responsibility(ies) of the proposed consultants and the rationale for their use.

i. Listing of all federal, state, or local funded grants and/or contracts received.

3. Individual Service Plans—Applicants shall describe in detail:

a. The methodology regarding the development of individual client service plans;

b. The process to ensure that service plans will be periodically reviewed and updated; and

c. The staff that will have responsibility for the development or updating of the plans.

4. Case Management—Describe in detail the case management system for tracking and monitoring client progress on a regular basis to ensure that each child receives the full range of program services in an integrated and comprehensive manner. Identify the staff positions responsible for coordinating the implementation and maintenance of the case management system.

5. Structure and Accountability—Applicants must fully describe:

a. The plan for developing and maintaining internal structure, control and accountability through programmatic means.

b. Utilization of daily logs to track program activities.

c. Ability to produce statistical reports to track referral demographics and performance.

d. Ability to maintain a comprehensive database on program demographics and the statistical data regarding UAC in your program.

6. Characteristics of Program Site:

Residential/Office Facility. Applicants are required to set forth in detail comprehensive information regarding:

a. A physical description of the proposed facility including the proposed allocation of office space (description must be about an existing facility. New constructions will not be considered);

b. Documentation that the facility meets all relevant zoning, licensing, fire, safety and health codes required to operate a residentially based social service program. Copies of relevant documents must be submitted at the time of application;

c. Facility ownership or leasing agreements must be fully explained and documented.

d. Applicants should submit a copy of their licenses, along with a description of how their licenses support ORR's needs (capacity, ages, sex, length of stay, etc.) and what types of services the license covers.

Levels of Care and Custody

Levels of care are specific to geographic locations identified in Section 1. All minimum standards apply. The applicants must apply for the appropriate level of care as indicated in the sections below. Applicants can apply for one or more of the levels of care as long as they have appropriate levels of care in the different geographic locations.

Shelter Care: Recipients shall provide shelter care, which could include basic shelter, group home, staff secure, secure, and transitional/long-term foster care, in addition to other related services to unaccompanied alien children. Each level of care will provide children with a structured, safe, and productive environment which meets or exceeds respective State guidelines and standards for similar care. The design of the shelter care program and facility should be in full compliance with the Flores Settlement Agreement, including the Minimum Standards for Licensed Programs, which are indicated in this announcement, and State licensing requirements.

a. Basic Shelter Care and Group Homes: Shelter Care: The Recipient operates a licensed shelter care facility designed to serve the majority of unaccompanied alien children for an average of 45 days. Facilities are generally located in major immigration apprehension areas and provide a full range of on-site services. Basic shelter care facilities typically house between 16 and 80 children, depending on state licensing requirements.

Group Homes: The Recipient operates licensed group homes designed to serve the majority of unaccompanied alien children, with an emphasis on the ability to serve specific sub-sets of the population, including but not limited to children of a tender age, pregnant and parenting teens, and children with other special needs. Group homes are generally located in major immigration apprehension areas and provide a full range of on-site services (including education). Group homes typically house between 6 and 18 children, depending on state licensing. Generally, unaccompanied alien children will remain in group homes for an average of 45 days.

Areas where Basic Shelter Care or Group Home programs are needed: Miami, FL; Atlanta, GA; San Francisco, CA; Los Angeles, CA; San Diego, CA; Phoenix, AZ; Chicago, IL; Houston, TX; El Paso, TX; Brownsville/Harlingen, TX and McAllen, TX.

b. Transitional Foster Care: The Recipient operates licensed, trained foster homes that are designed to serve the majority of unaccompanied alien children, but are typically reserved for children of a tender age, pregnant/parenting teens, and children with other special needs. Transitional foster care provides children with a family-style living environment where children are integrated into a domestic atmosphere. The foster care agency is responsible for providing a full range of on-site services, including education that must meet or exceed State licensing requirements.

Areas where Transitional Foster Care is Needed: Harlingen/Brownsville, Texas, Chicago, Illinos.

c. Staff Secure Care (Medium Secure): The Recipient operates a structured, licensed shelter care facility designed to serve a unique population: UAC who require close supervision but do not need placement in junevile correction facilities. The population may include with delinquent behavior; UAC with serious behavior problems; and UAC who present a flight risk. As an alternative to secure detention, the staff-secure Recipient significantly reduces/eliminates the use of physical restraints and facilitates a “safe-haven shelter” atmosphere rather than a “juvenile detention” environment. In addition to compliance with ORR/DUCS shelter care standards, policies, and procedures, the Recipient provides the following:

(1) Heightened level of staff supervision, communication and services for a small population of 20 youth or fewer. The Recipient is required to maintain stricter security measures and higher staffing ratios than many shelters/group homes in order to control problem behavior and discourage flight. If there is an escape from a staff secure facility, the Recipient must provide a detailed corrective action plan to the Project Officer, in addition to completing and submitting to ORR a Significant Incident Report.

(2) Effective monitoring so that entry to and egress from the building can be controlled. A staff secure facility may have a security fence and secure entrance(s) and exit(s). However, the Recipient does not utilize lock-down procedures typically associated with traditional juvenile correctional (detention) facilities (e.g., strip searches, use of mechanical restraints, cell-like sleeping rooms, lack of privacy, razor wire, etc.)

(3) The Recipient's program design is consistent with ORR's interest to ensure the child's timely appearance before the immigration court and to protect the child's well-being and that of others in the shelter. The Recipient provides this heightened level of staff supervision for any and all required community trips (medical, dental, immigration court). Recreational and educational field trips are limited and must be specifically approved by the Project Officer. Security and accountability are maintained during transport through procedures, staffing patterns, and effective communication rather than bars, locks and restraints associated with typical juvenile detention centers.

(4) The Recipient must have the capability to control the behavior and flight of a specific child when needed and maintain constant and continuous supervision of the minor. For example, the Recipient should incorporate constant supervision rather than 15 minutes or 30 minute bed checks. In order to prevent flight and/ or protect the safety of staff and children, the use of physical (hands-on) restraint is authorized in cases where children are attempting to flee or cause harm to self or others. However, the facility should not exceed the level of restraint permitted by the Recipient's shelter license. Staff must be trained and be competent in the use of behavioral management techniques and other alternatives to mechanical restraints.

(5) The Recipient provides (or has access to) specialized services for children with substance abuse problems, anger management issues, and/or other special behavior needs. The Recipient also has timely access to bilingual mental health services. The Recipient is expected to provide complete case management services, including the preparation and processing of reunification packets. The Recipient monitors the length of stay, timely family reunifications and releases, and regularly evaluates the child's progress for transfer to a less restrictive setting.

Areas where Staff Secure Care Programs are needed: Houston, TX; Brownsville, TX.

d. Secure Care (Full-Service): Secure Detention: One location with 6 beds. The Recipient provides secure shelter care in a non-traditional setting. The license should enable the facility to provide secure care as listed in this section. Rather than operating a traditional juvenile detention center, the Recipient provides a full range of program and case management services in a secure but shelter care setting. The Recipient operates a facility that is able to maintain control of a specialized population of 6 children who have exhibited the following behavior: violent or criminal behavior that endangers others (e.g., serious assault; carrying weapons in support of violence); serious escape history/risk; serious sex offender; extremely disruptive behavior in shelter or disruptive behavior in staff secure setting. In addition to meeting child welfare standards and services and the staff secure levels of care and programming, the Recipient accomplishes the following:

(1) Recipient has capability to physically and safely restrain a violent child during an emergency (i.e.: self harm, harm to others) or escape attempt. Staff must be trained and competent in the use of behavioral management techniques and other alternatives to physical and hard restraint, which should only be used as a last resort. Nonetheless, the use of soft and hard restraints is authorized in emergencies and for escape precautions during transport, when needed. Recipients should use only soft restraints (like nylon) , rather than hard restraints (like metal hand-cuffs, metal shackles, and metal belly chains) depending on need and previous background of the minor. The Recipient practices a “zero tolerance” policy for escapes from a secure care facility or from secure transport.

(2) In accordance with state detention and safety standards, the facility, rooms, and windows are secure. The American Correctional Association's “Standards for Small Juvenile Detention Facilities” (ACA, 3rd ed. 1991) and its published supplements should be used by the Recipient as a guide. The Recipient will direct special attention to the publication's mandatory standards for small detention facilities and provide the Project Officer an Action Plan regarding the current status of compliance with these Standards. It is understood that in this non-traditional secure setting some standards may not be applicable.

Areas where Secure Care Programs are needed: Texas and Indiana

e. Therapeutic Group Home: Recipient operates a licensed therapeutic group home to serve a sub-set of the UAC population. There are certain UAC who do not require the intensive mental health placement of a residential treatment center (RTC), but would benefit from placement in a small, supervised, therapeutic environment. Children who may qualify for placement in a therapeutic group home include:

1. Children being discharged from a residential treatment center.

2. Children with mild cognitive impairments.

3. Children with documented mental health issues, such as depression, PTSD, and anxiety.

4. Children with a history of family violence, sexual abuse/assault, and/or physical/emotional abuse.

5. Children on psychiatric medication.

6. Children with behavior management concerns.

7. Children requiring more intensive supervision and therapeutic services.

Applicants should describe in detail a staffing structure, behavior management program, recreational program, and educational and therapeutic services that are specifically geared toward the children described in the above paragraph. All group home staff must have child welfare experience and should preferably have some mental health professional experience. The group home environment should be designed to look and feel like a home. Therapeutic services, at a minimum, should include bi-lingual individual and group counseling; psychiatric/psychological evaluation and care; and psychotherapy. Applicants must demonstrate relationships and collaboration with community-based bi-lingual mental health providers for therapeutic services that are not available on-site. A sample psycho-educational and clinical group counseling schedule should be provided, including which staff will facilitate the groups. A sample recreational program schedule should also be provided which outlines internal and external activities (both on and off-site).

Applicants should also include documentation and a description of the behavioral management program they intend to use (program should be based on a reward and progressive privilege system). Applicants must demonstrate an ability and willingness to work with children with mental health issues and/or behavior management concerns. In addition, applicants must be equipped to work with children that other shelter care providers do not have the specialized resources and staff to serve. Applicants should expect to get children transferred from other shelter care providers, but should not plan to transfer children out of the group home, unless such a transfer is clearly documented and justified. All transfers must be ultimately approved by ORR.

Areas where Therapeutic Group Home Programs are needed: Two locations: One location in Phoenix, AZ and another location in either TX or NY.

f. Long Term Foster Care and Suitability Assessments: The Recipient or Sub-Recipient will be responsible for the provision of child welfare-related services, including suitability assessments and long-term foster care placement, to UAC in the custody of ORR/DUCS, who have been approved for such services by ORR/DUCS. Service delivery is expected to be accomplished in a manner which is sensitive to the culture, the native language and the complex needs of this population.

Up to 50 foster care beds (placements) and 120 suitability assessment referrals will be awarded to each applicant for a total of 2 awards. Public or private organizations which are incorporated as not-for-profit under the laws of their State and which meet the following requirements are eligible. The applicant shall:

1. Be a national agency with nationwide service capability (nationwide network of providers) to coordinate comprehensive multilingual, multicultural services for UAC.

2. Have a nationwide network of affiliate foster care programs that provide residential and case management services to UAC.

3. Have a nationwide network of affiliate agencies that have experience conducting home suitability assessments and support services for Chinese and Indian children, as well as unaccompanied alien children of other nationalities that require such services.

Due to security and child welfare concerns, Suitability Assessments (SA) of unaccompanied minors joining relative sponsors may be required prior to any family reunification decision. The SA shall be completed and will be the basis for the Recipient recommendation to ORR/DUCS. Final family reunification decisions are at the discretion of ORR/DUCS, but will be based on the SA recommendation. The Recipient or Sub-Recipient may conduct a suitability assessment of the family unit, taking into account the principle that children should be reunited with relatives whenever possible and appropriate.

The Recipient shall ensure that long-term foster care services are provided in accordance with applicable State child welfare statutes, regulations and generally accepted child welfare standards, practices, principles and procedures until release from Federal custody, removal to country or origin, or until the age of 18. Long-term foster care referrals are generally reserved for children who will be in Federal custody for more than four months. The Recipient shall, after careful review of the case (including, but not limited to, consideration of the child's ethnicity, education level, medical/mental health status, family relationships, reunification potential, age and religion), assign cases appropriate for long-term foster care to a Sub-Recipient provider of foster care services.

Applicants for long-term foster can include up to 12 transitional foster care beds in their submission.

Areas where Long Term Foster Care Program and Suitability Assessment are needed: Nationwide.

Please see the table under Geographic Locations that specifies the locations (cities and state or nationwide), type of facilities or services, total number of beds required by location or service and available maximum funds for each location or services. Please note also that there are two groups since the awarding periods vary.

Type of facilities required: as specified in the table under Geographic location for each location.

Example: In Miami, Florida services required are basic shelter and/or group homes and total number of beds required is 42. The total amount of fund available for this area and services is $2,530,000.

II. Award Information

Funding Instrument Type: Cooperative Agreement.

Substantial Involvement with Cooperative Agreement: ORR directs and supports grantees in the design and implementation of program activities, services and facilities; designing protocols or procedures; assisting in the selection of contractors (if applicable); key project staff; providing guidance in the collection and analysis of data and modification of project activities.

Anticipated Total Priority Area Funding: $42,883,000.

Anticipated Number of Awards: 26 to 27.

Ceiling on Amount of Individual Awards: $5,910,000 per budget period.

Floor on Amount of Individual Awards: $3,300,000 per budget period.

Average Projected Award Amount: $1,580,185 per budget period.

Length of Project Periods: 60 month project with five 12 month budget periods.

60 month project with five 12 month budget periods. Project periods for Group I: October 1, 2006 to September 30, 2010; for Group II: March 1, 2006 to February 28, 2011.

Awards will be for one-year budget period for Group I starting October 1, 2005 to September 30, 2006 and for Group II starting March 1, 2006 to February 28, 2007.

Applications for continuation grants funded under these awards beyond the one-year budget period may be entertained on a non-competitive basis, subject to availability of funds, satisfactory performance of the project, capacity needs and a determination that continued funding is in the best interest of the Government.

There could be multiple awards for each location depending on the types of services required as indicated in each location but the total funding will not exceed $42,883,000.

Based on the availability of funds and need for bed space, there could be supplements of awards for each location. As long as quality services are provided by each organization and there is a need for beds, continuation/renewals may apply every budget year until the end of the project period.

III. Eligibility Information

1. Eligible Applicants

• Non-profits having a 501(c)(3) status with the IRS, other than institutions of higher education

• Non-profits that do not have a 501(c)(3) status with the IRS, other than institutions of higher education

• For-profit organization other than small businesses

Additional Information on Eligibility: Non-profit organizations (including faith-based and community organizations) incorporated under state law which have demonstrated child welfare, cross cultural/international, social services or related experience and are appropriately licensed facilities (at the time of submission of the application) for the provision of shelter care, foster care or group home care, staff secure, secure, therapeutic group home and related services to dependent children are eligible to apply.

For-profit organizations incorporated under state law which have demonstrated child welfare, cross cultural/international, social services or related experience, and are appropriately licensed (at the time of submission of the application) for the provision of shelter care, foster care or group home care, staff secure, secure, therapeutic group home and other related services to dependent children are eligible to apply. These organizations must clearly demonstrate that they are only charging the program actual costs incurred and will not realize a profit at the expense of the government.

• No organization/agency is guaranteed an award.

• Final award and budget approved may differ from initial request.

The Director of ORR reserves the right to award more or less funding to any individual applicant or in total for all applicants based on the quality of the applications and the best interest of the Government. In cases where ORR proposes to award an amount less than an organization's application request, the organization will be required to submit a revised budget and budget narrative showing how the organization proposes to spend the amount ORR is proposing to award to the organization. If an organization fails to submit a commensurate revised budget within the time requested, the agency will forfeit the award.

2. Cost Sharing/Matching

None.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors: Applications that exceed the ceiling amount will be considered non-responsive and will not be considered for funding under this announcement.

Any application that fails to satisfy the deadline requirements referenced in Section IV.3 will be considered non-responsive and will not be considered for funding under this announcement.

Other Disqualification Factors: Group 1 applications will be considered non-responsive and will not be considered for competitive review if lacking copies of one of the following documentation items: a physical description of the proposed facility, including the proposed allocation of existing office space (new construction will not be considered); the facility license; the ownership or lease agreement for the facility; and, that the facility meets all zoning, licensing, fire, safety, and health codes required to operate a residentially-based social service program.

Group 2 applicants applications will be considered non-responsive and will not be considered for competitive review if lacking copies of one of the following documentation items: a physical description of the proposed facility, including the proposed allocation of existing office space (new construction will not be considered); proof of application for license; the ownership or lease agreement for the facility; and, that the facility meets all zoning, licensing, fire, safety, and health codes required to operate a residentially-based social service program. Awards will be contingent upon subsequent documentation of an approved license. An approved license must be submitted no later than January 1, 2006.

IV. Application and Submission Information

1. Address To Request Application Package

Sylvia M. Johnson, Grants Officer, Office of Grants Management, Administration for Children and Families, U.S. Department of Health and Human Services, 901 D Street, SW., 4th Floor West, Washington, DC 20447.

Phone: 202-401-4524.

E-mail: sjohnson@acf.hhs.gov.

URL: http//www.Grants.gov.

2. Content and Form of Application Submission

Letters of intent are encouraged but not required. Letters of intent to apply are due 15 calendar days after publication of the announcement. Letters should state the funding opportunity number, the applicant's name and contact information, the location of the proposed site and the type of service(s) applicants are applying for. Letters of intent should be sent to the attention of Tsegaye Wolde at Office of Refugee Resettlement, Administration for Children and Families, 370 L'Enfant Promenade, S.W., 6th Floor East, Washington, D.C., 20447. Letters may also be sent by facsimile to: 202-401-1022 or by e-mail to: twolde@acf.hhs.gov.

Each application must include the following components:

Table of Contents

a. Abstract of the Proposed Project—very brief, not to exceed one page (would be suitable to use in announcing the grant award, if selected) and which identifies the type of project, the target population, and the major elements of the work plan.

b. Completed Standard Form 424—signed by an official of the organization applying for the grant who has authority to legally obligate the organization.

c. Standard Form 424A—Budget Information—Non Construction Programs.

d. Narrative Budget Justification—for each object class category required under Section B, Standard Form 424A.

e. Project Narrative—A narrative that addresses issues described in the “Application Review Information” and the “Evaluation Criteria” sections of this announcement.

Applicants have the option of omitting from the application copies (not the original) of specific salary rates or amounts for individuals specified in the application budget.

Application Format

• Submit application materials on white 8.5 x 11 inch paper only. Do not use colored, oversized or folded materials.

• Please do not include organizational brochures or other promotional materials, slides, films, clips, etc.

• The font size may be no smaller than 12 pitch and the margins must be at least one inch on all sides.

• Number all application pages sequentially throughout the package, beginning with the abstract of the proposed project as page number one.

• Please present application materials either in loose-leaf notebooks or in folders with page two-hole punched at the top center and fastened separately with a slide paper fastener.

Page Limitation

• Each application narrative should not exceed 40 pages double-spaced.

• Attachments and appendices should not exceed 40 pages and should be used only to provide supporting documentation such as administration charts, position descriptions, resumes, and letters of intent or partnership agreements.

• A table of contents and an executive summary should be included but will not count in the page limitations.

• Each page should be numbered sequentially, including the attachments and appendices.

• This limitation of 40 pages should be considered as a maximum, and not necessarily a goal.

• Application forms are not to be counted in the page limit. Any pages that go beyond the 40 page limit will not be considered in the review process.

• Please do not include books or videotapes as they are not easily reproduced and are therefore inaccessible to the reviewers. The review panel will not consider submitted material which exceeds the 40 page limit.

You may submit your application to us in either electronic or paper format.

To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times

Due Date for Letter of Intent: June 17, 2005.

Due Date for Applications: July 18, 2005.

Explanation of Due Dates: The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8:00 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. Applicants will receive an electronic acknowledgement for applications that are submitted via http://www.Grants.gov.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 |  | By date of award.
Letter of Intent | See Section IV.2 | Found in Section IV.2 | 15 days after publication.
Table of Contents | See Section IV.2 | Found in Section IV.2 | By application due date.
SF424A | See Section IV.2 | See http://www.acf.hhs.gov/programs/ofs/forms.htm | By application due date.
Support Letters |  |  |
Other: 3rd Party Agreements |  |  |
SF424B | See Section IV.2 | See http://www.acf.hhs.gov/programs/ofs/forms.htm | By application due date.
Proof of Non-Profit Status | See Section III.3 | Found in Section III.3 | By date of award.
Project narrative |  | A narrative that address issues described in the application.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th Floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

6. Other Submission Requirements

Submission by Mail: An applicant must provide an original application with all attachments, signed by an authorized representative and two copies. Please see Section IV.3 for an explanation of due dates. Applications should be mailed to:

Sylvia M. Johnson, Grants Officer, U.S. Department of Health and Human Services, Administration for Children and Families, Division of Discretionary Grants, 370 L'Enfant Promenade, SW., Washington, DC 20447.

Hand Delivery: An applicant must provide an original application with all attachments signed by an authorized representative and two copies. The application must be received at the address below by 4:30 p.m. eastern time on or before the closing date. Applications that are hand delivered will be accepted between the hours of 8:00 a.m. to 4:30 p.m. eastern time, Monday through Friday. Applications should be delivered to:

Sylvia M. Johnson, Grants Officer, U.S. Department of Health and Human Services, Administration for Children and Families, Division of Discretionary Grants, 901 D Street, SW., 2nd Floor, East, Mailing, Washington, DC 20447.

Electronic Submission: Please see Section IV.2 for guidelines and requirements when submitting applications electronically via http://www.Grants.gov.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Dissemination Plan

Provide a plan for distributing reports and other project outputs to colleagues and the public. Applicants must provide a description of the kind, volume and timing of distribution.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000.

Note: (Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application so the applicant is given credit in the review process. A detailed budget must be prepared for each funding source.

Total Direct Charges, Total Indirect Charges, Total Project Costs

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Objectives and Need for Assistance—30 points

Program Services: The applicant's response to the required program services, including:

a. The capacity of the program to offer comprehensive, integrated and culturally appropriate services which meet the needs of the clients to include orientation, education, individual/group counseling, medical care, mental health services, recreation and vocational provisions. ORR is particularly interested in an agency's capacity for services to pregnant teens and children under 12 years old. ORR is also interested in facilities that are licensed to provide care for an extended period rather than on an emergency basis. Facilities that have competency in and documentation of a behavioral management system that utilizes a strength-based approach/model in the implementation of the UAC program will also be of interest. Agencies that can provide shelter services to special needs populations, such as victims of smuggling and trafficking requiring a higher level of security, should discuss their capacity and explain their ability to assist these populations in the application.

b. Reunification: Reunification/Immigration relief/Long-Term Plan—Case Management: The adequacy of the plans for:

1. developing and updating Individual Service Plans;

2. the proposed system of case management;

3. ability to prepare a reunification package and reunify minors with their eligible sponsors; and,

4. implementation and maintenance of a client computer database system.

Organizational Profiles—20 points

Program/Facility Design: The extent to which the applicant's program design demonstrates that it is appropriate for the target population that the applicant is planning to serve; meets state licensing requirements, is cost effective, and meets ORR's program guidelines. Program design includes overall physical location and description of the facility (including description about sleeping arrangements, food preparation, kitchen and dining area, class rooms, office space, rest rooms, outside recreation areas and living space) and its ability to best meet the objectives of the program and services, offered, including access to immigration court, airports, fire, police, churches and the local community. Ample outdoor recreation areas are seen as a benefit to the UAC population.

Approach—20 points

1. Management Plan: The quality of the applicant's program management and staffing plans as demonstrated by:

a. The adequacy of the plan for program management and the plan for coordination between the components of the program.

b. The adequacy of the plan for coordination with community and governmental agencies.

c. The adequacy of the qualifications of the applicant organization, and the extent to which this organization has a demonstrated record as a provider of child welfare and/or other social services.

d. The extent to which the applicant has demonstrated effective fiscal management and accountability.

e. The extent to which sub recipient(s)/subcontractor(s) have demonstrated effective fiscal and program management and accountability. Discuss most recent audit and findings.

f. The adequacy of the plans for staff supervision and intra-program communication.

g. The extent to which staffing plans demonstrate a sound relationship between the proposed responsibilities of program staff and the educational and professional experience required for the position.

Charts delineating clear organizational relationships and levels of authority including names and positions of staff responsible for providing overall management and implementation of the program.

Budget and Budget Justification—10 points

Budget: The reasonableness of the proposed budget and budget narrative in relation to proposed program activities.

Letters of Support—10 points

External Factors: The degree to which the application has provided written documented evidence/letters of local community support and acceptance of the program. This should include established relationships with local emergency services (i.e., police, fire), medical and mental health agencies, religious and community organizations, and state licensing offices' recommendations for serving this particular population. Any and all documented State licensing allegations/concerns must be reported. Failure to report such allegations could result in termination of the grant.

Evaluation—10 points

Internal Evaluation and Control: a. The degree to which the applicant provides effective strategies of programmatic control, predictability and accountability as evidenced by the program design. Recipients should describe an evaluation methodology based on performance. Focus will be placed on reunification performance and ability to ensure timely release for those with sponsors. Applicants should demonstrate effectiveness and measures that track performance in this area.

b. Utilization of resources in a manner which enhances program control, structure and accountability, such as an internal program and financial monitoring system.

2. Review and Selection Process

No grant award will be made under this announcement on the basis of an incomplete application.

Applications submitted under this program announcement will undergo a pre-review to determine that (1) the application was received by the closing date and submitted in accordance with the instructions in this announcement and (2) the applicant is eligible for funding. It is necessary that applicants state specifically which priority area they are applying for. Applications will be screened for priority area appropriateness. If applications are found to be inappropriate for the priority area in which they are submitted, applicants will be contracted for verbal approval of redirection to a more appropriate priority area.

Applications which pass the initial ACF screening will be evaluated and rated by an independent review panel on the basis of specific evaluation criteria. The results of these reviews will assist the Director and ORR program staff in considering competing applications. Reviewers scores will weigh heavily in funding decision, but will not be the only factors considered. Applications generally will be considered in order of the average scores assigned by reviewers. However, highly ranked applications are not guaranteed funding because other factors are taken into consideration. These include, but are not limited to, the number of similar types of existing grants or projects funded with ORR funds in the last five years; comments of reviewers and government officials; staff evaluation and input; geographic distribution; previous program performance of applicants; compliance with grant terms under previous DHHS grants; audit reports; investigative reports; an applicant's progress in resolving any final audit disallowance on previous ORR or other Federal agency grants. The evaluation criteria were designed to assess the quality of a proposed project, and to determine the likelihood of its success. The evaluation criteria are closely related and are considered as a whole in judging the overall quality of an application. Points are awarded only to an application which is responsive to the evaluation criteria within the context of this program announcement.

ORR has the authority to pass over ranking order based on geographic area (location) and capacity needs.

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Direct Federal grants, subaward funds, or contracts under this ACF Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

3. Reporting Requirements

Grantees will be required to submit program progress and financial reports (SF-269 found at http://www.acf.hhs.gov/programs/ofs/forms.htm) throughout the project period. Program progress and financial reports are due 30 days after the reporting period. Final programmatic and financial reports are due 90 days after the close of the project period.

Program Progress Reports: Quarterly.

Financial Reports: Semi-Annually.

Statistical Reports: As required by ORR.

Original reports and one copy should be mailed to the Grants Management Contact listed in section VII Agency Contacts.

Upon acceptance, grantees will receive formats and schedules for reporting a quarterly program progress report for program activities and on a semi-annual basis for financial expenditure reports.

VII. Agency Contacts

Program Office Contact

Tsegaye Wolde, Office of Refugee Resettlement, Administration for Children and Families, U.S. Department of Health and Human Services, 901 D Street, SW., 6th Floor East, Washington, DC 20447.

Phone: 202-401-5144; cell phone: 202-360-2635.

Fax: 202-401-1022.

E-mail: twolde@acf.hhs.gov.

Grants Management Office Contact

Sylvia M. Johnson, Office of Grants Management, Administration for Children and Families, U.S. Department of Health and Human Services, 370 L'Enfant Promenade, SW., 4th Floor West, Washington, DC 20447.

Phone: 202-401-4524.

E-mail: sjohnson@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Awards are subject to the availability of funds. The Director reserves the right to award more or less than the funds described in this announcement. In the absence of worthy application, the Director may decide not to make an award if deemed in the best interest of the Government. Funding for future years, under this announcement is based on the availability of funds. The Director may invite applications outside of the proposed closing date, if necessary, to respond to the needs of the Unaccompanied Alien Children.

The Director has the discretion to make awards or pass over applicants based on shifting demographics and geographic capacity needs of the program. The Director also reserves the right to move a program from one geographic location to another and/or change from one type of service to another, as necessary to ensure appropriate capacity needs.

Please reference Section IV.3 for details about acknowledgement of received applications.

Dated: May 23, 2005.
Nguyen Van Hanh,
Director, Office of Refugee Resettlement.

[FR Doc. 05-10961 Filed 6-1-05; 8:45 am]

BILLING CODE 4184-01-P